DEPARTMENT OF COMMERCE

National Oceanic and Atmospheric Administration

50 CFR Part 660

[Docket No. 231023-0250]

RIN 0648-BM60

Magnuson-Stevens Act Provisions; Fisheries Off West Coast States; Pacific Coast Groundfish Fishery; Pacific Coast Groundfish Fishery Management Plan; 2024 Specifications and Management Measures Corrections

AGENCY: National Marine Fisheries Service (NMFS), National Oceanic and Atmospheric Administration (NOAA), Commerce.

ACTION: Proposed rule; request for comments.

SUMMARY: This rule proposes to correct 2024 harvest specifications for several species of groundfish where the numerical values were mathematically calculated incorrectly and do not accurately reflect the harvest policy recommendations of the Pacific Fishery Management Council (Council). These harvest specifications are for groundfish caught in the U.S. exclusive economic zone seaward of Washington, Oregon, and California, consistent with the Magnuson-Stevens Fishery Conservation and Management Act (Magnuson-Stevens Act) and the Pacific Coast Groundfish Fishery Management Plan (PCGFMP). This proposed rule would revise harvest limits or allocations that were calculated based on incorrect annual catch limits. This action would implement corrected numerical values that align with the Council's intended harvest policy decisions and considers the most recent fishery information available at the time those policies were recommended.

DATES: Comments must be received no later than November 13, 2023.

ADDRESSES: Submit your comments on the proposed rule identified by NOAA-NMFS-2023-0108, by the following method:

• Electronic Submissions: Submit all electronic public comments via the Federal e-Rulemaking Portal. Go to https://www.regulations.gov and enter NOAA-NMFS-2023-0108 in the Search box. Click the “Comment” icon, complete the required fields, and enter or attach your comments.

Instructions: Comments must be submitted by the above method to ensure that the comments are received, documented, and considered by NMFS. Comments sent by any other method, to any other address or individual, or received after the end of the comment period, may not be considered. All comments received are a part of the public record and NMFS will post for public viewing on https://www.regulations.gov without change. All personal identifying information (e.g., name, address, etc.), confidential business information, or otherwise sensitive information submitted voluntarily by the sender is publicly accessible. NMFS will accept anonymous comments (enter “N/A” in the required fields if you wish to remain anonymous).

Electronic Access

This rulemaking is accessible via the internet at the Office of the Federal Register website at https://www.federalregister.gov/. Background information and documents including an analysis for the policy decisions underpinning this action (Analysis), which addresses the statutory requirements of the Magnuson-Stevens Act are available from the Council's website at https://www.pcouncil.org. The final 2022 Stock Assessment and Fishery Evaluation (SAFE) report for Pacific Coast groundfish, as well as the SAFE reports for previous years, are available from the Council's website at https://www.pcouncil.org. The final Environmental Assessment (EA) and Regulatory Impact Review from the 2023-2024 harvest specifications is available from the NMFS website at https://www.fisheries.noaa.gov/region/west-coast.

FOR FURTHER INFORMATION CONTACT: Gretchen Hanshew, Fishery Management Specialist, at 206-526-6147 or gretchen.hanshew@noaa.gov.

SUPPLEMENTARY INFORMATION:

I. Background

Chapter 5 of the PCGFMP requires the Council to assess the biological, social, and economic conditions of the Pacific coast groundfish fishery and use this information to develop harvest specifications and management measures at least biennially. The Council's final recommendations for 2024 harvest specifications and management measures for over 120 species and management units were made at its April and June 2022 meetings and published in a proposed rule on October 14, 2022 (87 FR 62676). No public comments regarding the subject harvest specifications and management measures were received, and NMFS published the final rule on December 16, 2022 (87 FR 77007). Hereafter, these proposed and final rules for the 2023-2024 harvest specifications and management measures will be referred to as the “original” proposed and final rules. In a small subset (six species or management units) of those harvest specifications and harvest target management measures regulations, the numerical values were miscalculated and are either too high (increasing risk of overfishing) or are too low (increasing risk of not achieving optimum yield). Specific details on the errors and corrected values for each species are discussed below.

The subject harvest policies used to calculate the numerical values (both original and corrected values in this proposed rule) for these harvest specifications and harvest target management measures are not revised from those described in the original proposed and final rules for the 2023-2024 harvest specifications and management measures. However, the correctly calculated values for those policies were not published during the rulemaking process. Therefore, we are seeking comments on the regulation changes in this action. All comments received by the end of the comment period will be considered. These measures are intended to help prevent overfishing, rebuild overfished stocks, achieve optimum yield, and ensure management measures are based on the best scientific information available.

II. Corrections to Harvest Specifications and Harvest Targets

Harvest specifications are numerical values of the harvestable surplus and include overfishing limits (OFLs), the annual biological catch (ABC), and annual catch limits (ACLs). Additional information on harvest specifications and how they are calculated and used for fishery management can be found in the preamble of the original proposed rule. Harvest targets are management measures calculated based on allocations and sharing agreements between fishery sectors and/or states. Harvest targets are calculated based on ACLs. If the ACL numerical values are incorrect, harvest targets will also be incorrect. The OFLs, ABCs, and ACLs in this proposed rule are based on the best available biological data, including projected biomass trends, information on assumed distribution of stock biomass, and technical methods used to calculate stock biomass and apportion that biomass within the allocation structure of the PCGFMP. Mistakes in the calculation and apportionment of harvestable surplus were made early in the harvest specifications process that resulted in incorrect OFLs for a few species. Those mistakes were not caught, and some propagated all the way through ABCs, ACLs, and the setting of management measures like catch sharing and allocations.

In preparing for the development of 2025-26 biennial harvest specifications and management measures during the summer of 2023, calculation errors for the 2023-2024 harvest specifications were discovered. This meant that the numerical values in the regulations in both 2023 and 2024 were not representative of the harvest policies and technical documents for calculating harvest specifications that had been recommended by the Council. As described below, in developing the 2023-2024 harvest specifications, the intent of the Council was to rely on the best scientific information available. The Council and the proposed rule correctly cite the most up to date analytical documents (e.g., the most recent stock assessment information and the 2022 Stock Assessment and Fishery Evaluation (SAFE) document, See ADDRESSES). However, numerical values provided in the 2023-2024 harvest specifications were drawn from prior harvest specification cycles, which resulted in calculation errors in the original proposed and final rules. This rulemaking is necessary to reflect the intent of the Council and NMFS in the 2023-2024 harvest specifications and management measures and the descriptions of the harvest specifications in the original proposed rule. This proposed rule would correct the errors for the 2024 harvest specifications, as recommended by the Council at its September 7-14, 2023 meeting.

Due to the timing of being made aware of these mistakes, and because the 2023 fishing season was more than 75 percent complete by the time the Council considered this issue at its September 2023 meeting, we are only proposing corrections for the 2024 fishing season, which begins on January 1, 2024. This action proposes correctly calculated numerical values for 2024 that are representative of the Council-recommended harvest control rules and that incorporate fishery and other scientific information that was inadvertently omitted in the original proposed and final rules. This action would not revise static numerical values deducted from the ACLs, such as set-asides for tribal fisheries or scientific research, except for sablefish north as described below. All other deductions from the ACLs remain the same as those described in the original proposed rule.

The 2022 SAFE document includes a detailed description of the scientific basis for all of the Council Science and Statistical Committee-recommended OFLs proposed in this rule, and is available at the Council's website, https://www.pcouncil.org.

For all species described below, revised 2024 OFLs, ABCs, ACLs and fishery harvest guidelines are proposed at table 2a to subpart C, and in some cases other necessary adjustments to numerical harvest target management measures in footnotes to that table are also made. For all species described below, except for sablefish north, revised 2024 trawl or non-trawl allocations are proposed at table 2b to subpart C. Additionally, for all species described below, revised 2024 shorebased IFQ allocations are proposed at § 660.140(d)(1)(ii)(D). Any additional species-specific proposed regulatory changes are described in species-specific sections below.

A. Canary Rockfish (Sebastes Pinniger)

Canary rockfish are a shelf species that is harvested in both commercial and recreational fisheries. It is an important component of shelf fisheries, and harvests have been well-below the ACLs in recent years. Harvest specifications are calculated for future years by assuming that the entire ACL will be harvested every year from the year the assessment is conducted. The Council routinely conducts catch-only updates to projections of harvest, so that the next harvest specifications cycle can account for under-attainment in recent years, resulting in increased yields. Such a catch-only projection for canary rockfish was conducted in 2021 for the 2023-2024 harvest specifications, but the old and not updated projections from the 2019 analysis were mistakenly carried forward to the 2023-2024 harvest specifications. The OFL, ABC, and ACL values, and the resulting allocations and harvest targets, should have been higher in 2023-2024 than what was implemented by the original final rule.

The July 2022 SAFE document describes how the harvest specifications for 2023 and beyond were intended to be informed by the 2021 catch-only projection. The 2024 OFL of 1,434 mt (3,161,429 lb), and subsequent calculations of ABC, ACL, allocations, and harvest targets, are correctly calculated in this proposed rule (table 1) based on the harvest control rules described in the SAFE document and the original proposed rule. Additionally, updated 2021 projections from the catch-only update were referenced in the SAFE document and are the same as those proposed in this rule. The proposed harvest specifications and the resulting numerical calculations of harvest target management measures for canary rockfish are all based on the best scientific information available and follow the same allocative formulas that were used in the original proposed and final rules and described in the SAFE document.

Table 1—Proposed Corrections to 2024 Canary Rockfish OFL, ABC, ACL, Allocations, and Harvest Guidelines (HGs)
2024 Specification | Original proposed and final rules (mt) | Proposed corrected (mt)
OFL | 1,401 | 1,434
ABC | 1,267 | 1,296
ACL | 1,267 | 1,296
Fishery HG | 1,198.1 | 1,227.4
Trawl (72.3%) | 866.2 | 887.4
Shorebased IFQ | 830.22 | 851.42
Non-trawl (27.7%) | 331.9 | 340.0
Nearshore/non-nearshore HG | 119.5 | 122.4
Washington Recreational HG | 40.8 | 41.8
Oregon Recreational HG | 61.4 | 62.9
California Recreational HG | 110.2 | 112.9

B. Darkblotched Rockfish (Sebastes Crameri)

Darkblotched rockfish is a healthy slope species predominantly harvested in commercial fisheries. Like canary rockfish, darkblotched rockfish is an important component for groundfish fisheries and harvest has been below the ACL in recent years. As is the case with canary rockfish, a catch-only projection update for darkblotched rockfish was conducted in 2021 to increase yields in 2023-2024 but the update was mistakenly not used in calculating the numerical values of the 2023-2024 harvest specifications that were implemented through notice and comment rulemaking. The numerical values of the OFL, ABC, ACL, and resulting allocations and harvest targets implemented through the original proposed and final rules were too low.

The July 2022 SAFE document describes how the darkblotched rockfish harvest specifications for 2023 and beyond were intended to be informed by the 2021 catch-only projection. Numerical values in this proposed rule are based on the 2021 projections from the catch-only update, as recommended by the Council. This rule proposes a 2024 OFL of 857 mt (1,889,000 lb), and subsequent calculations of ABC, ACL, and allocations and harvest targets (table 2), which were calculated using the harvest control rules described in the SAFE document and the proposed rule for the 2023-2024 harvest specifications and management measures. Therefore, the proposed harvest specifications and the resulting numerical calculations of harvest target management measures for darkblotched rockfish are all based on the best scientific information available and follow the same allocative formulas that were used in the original proposed and final rules and described in the SAFE document.

Table 2—Proposed Corrections to 2024 Darkblotched Rockfish OFL, ABC, ACL, Allocations, and Harvest Guidelines (HGs)
2024 Specification | Original proposed and final rules (mt) | Proposed corrected (mt)
OFL | 822 | 857
ABC | 751 | 782
ACL | 750 | 782
Fishery HG | 726.2 | 758.7
Trawl (72.3%) | 689.9 | 720.8
Shorebased IFQ | 613.53 | 644.34
Non-trawl (27.7%) | 36.3 | 37.9

C. Sablefish (Anoplopoma Fimbria)

Sablefish is assessed coastwide but has formal, long-term allocations in the area north of 36° N latitude (lat.). Therefore, ACLs for that geography must be calculated to carry out the north of 36° N lat. allocations prescribed in the PCGFMP. The Council adopted a methodology that is described in footnote z to table 2a of subpart C, where the 5-year rolling average of proportional biomass north and south of 36° N lat. from fishery-independent survey data will be used to apportion coastwide ACLs. Due to an error, the ACL apportionment north and south of 36° N lat. percentages were not updated with the most recent years' survey information in the development of the 2023-2024 harvest specifications. This resulted in the northern ACL being too high and the southern ACL being too low in the original proposed and final rules.

The apportionment percentages of the ACLs north and south that were published in the original proposed and final rules were not consistent with the adopted, described methodology in those same Federal Register documents. The erroneous percentages of 78.4 percent apportioned north of 36° N lat. and 21.6 percent apportioned south of 36° N lat. were used to calculate ACLs. These percentages used 2014-2018 survey data instead of 2015-2019 survey data, which was the most up to date 5-year rolling average that was available at the time. Using the described methodology of “the rolling 5-year average estimated swept area biomass from the NMFS NWFSC trawl survey”, the correct percentages that should have been used are 77.9 percent apportioned north of 36° N lat. and 22.1 percent apportioned south of 36° N lat. (table 3).

Consistent with the intent of the Council and NMFS, and as described in the original proposed rule, this proposed rule applies that apportionment, which decreases the 2024 sablefish north of 36° N lat. ACL by 50 mt (110,231 lb) to 7,730 mt (17,042,000 lb) and increases the 2024 sablefish south of 36° N lat. ACL by 50 mt (110,231 lb) to 2,193 mt (2,850,577 lb) in table 2a to subpart C. Accordingly, the formal allocation and sharing percentages north of 36° N lat. would be applied reducing numerical values stemming from the corrected north ACL (table 4) and regulations would be updated with reduced values in tables 2c to subpart C and § 660.140(d)(1)(ii)(D). Further calculations within the limited entry fixed gear sector include tier limit calculations shown in (table 5) and found at § 660.231(b)(3)(i). Additionally, the 10 percent tribal share is recalculated based on the new ACL and is proposed to decrease by 5 mt (11,023 lb) to 773 mt (1,704,000 lbs) at § 660.50(f)(2)(ii).

Likewise, subsequent breakdowns of numerical harvest targets in regulations for sablefish south of 36° N lat. that stem from ACLs would be increased as shown in table 6 and at table 2b to subpart C, and at § 660.140(d)(1)(ii)(D). All changes are proportional to the increase and decrease in the respective sablefish ACLs and do not require, or result in changes to, harvest sharing agreements described in the original proposed and final rules for the 2023-2024 harvest specifications and management measures and supporting analyses.

Table 3—Percentage of Biomass Used To Apportion Sablefish ACLs to Two Areas per Five-Year Rolling Average in the Initial Rulemaking (2014-2018) and in This Proposed Rule (2015-2019)
Area | Apportionment (2014-2018) (%) | Apportionment (2015-2019) (%)
North of 36° N lat | 78.4 | 77.9
South of 36° N lat | 21.6 | 22.1

Table 4—Proposed Revisions to 2024 Sablefish North of 36° N Lat. ACL, Shares, Allocations, and Harvest Guidelines (HGs) for Table 2c to Subpart C
Specification, allocations, etc. | Original proposed and final rules (mt) | Proposed corrected (mt)
ACL | 7,780 | 7,730
Tribal Share ᵃ | 778 (764.8) | 773 (759.9)
Commercial HG | 6,964 | 6,919
Limited Entry (LE) HG | 6,309 | 6,269
Open Access HG | ᵇ 665 (655) | 650
LE Trawl | 3,659 | 3,636
Shorebased IFQ ᶜ | 3,559.56 | 3,535.91
All Fixed Gear | 2,650 | 2,633
Primary | 2,252 | 2,238
Daily Trip Limit (DTL) | 397 | 395
ᵃ The tribal allocation is further reduced by 1.7 percent for discard mortality, shown in parentheses.
ᵇ Open Access HG is 9.4 percent of the Commercial HG, which should have been 655 mt (shown in parentheses), but 665 mt is what was in the original proposed and final rules.
ᶜ Allocations to the Shorebased IFQ Program are rounded to the nearest metric ton in table 2c to subpart C but are carried to two decimal places at table 1 to paragraph (d)(1)(ii)(D) in § 660.140.

Table 5—Proposed Revisions to 2024 Sablefish South of 36° N Lat. ACL and Harvest Guidelines (HGs) for Table 2a and 2b to Subpart C
Specification, allocations, etc. | Original proposed and final rules (lbs) | Proposed corrected (lbs)
ACL | 2,143 | 2,193
Fishery HG | 2,115.6 | 2,165.6
Trawl Allocation | 888.6 | 909.6
Non-trawl Allocation | 1,227 | 1,256

Table 6—Proposed Revisions to 2024 Sablefish North of 36° N Lat. Tier Limits at § 660.231(b)(3)(i)
Tier | Original proposed and final rules (lbs) | Proposed corrected (lbs)
One (1) | 66,805 | 66,377
Two (2) | 30,366 | 30,171
Three (3) | 17,352 | 17,241

D. Squarespot Rockfish (Sebastes Hopkinsi) and Minor Shelf Rockfish South of 40°10′ N Lat.

Squarespot rockfish is a dwarf species occurring off the coast of California that is not targeted in commercial or recreational fisheries and is managed as part of a group of minor shelf species. The 2021 data-moderate assessment found squarespot rockfish to be just below the management target; therefore default harvest control rules employ a precautionary reduction, per the PCGFMP framework, to decrease the harvest specifications and recover the stock to target population size. The squarespot rockfish harvest specifications contribute, along with several other species, to the minor shelf rockfish complex harvest specifications south of 40°10′ N lat. (hereafter “south”); therefore, there are no harvest specifications specific to squarespot rockfish in the regulations and none are described in detail in the original proposed rule. However, the original proposed rule and the SAFE document do describe how harvest specifications for 2023-2024 were based on the results of the 2021 squarespot rockfish stock assessment. The 2021 squarespot rockfish stock assessment underwent scientific review, per the Council's operating procedures, and was endorsed by NMFS and the Council's scientific and statistical committee as the best scientific information available upon which to base harvest specifications.

It was recently discovered that an error occurred and 2023-2024 harvest specification contributions for squarespot rockfish were not updated with new numbers based on the 2021 stock assessment. This resulted in squarespot rockfish contributions to the minor shelf rockfish complex south harvest specifications, which were implemented in the original proposed and final rules, that were too high and were not calculated based on the best scientific information available. Squarespot rockfish harvest specifications contributions being too high means that the minor shelf rockfish complex south harvest specifications and all subsequent harvest targets were also too high. For example, the squarespot rockfish ACL contribution was 4.8 mt too high, which resulted in the complex ACL also being 4.8 mt too high.

This rulemaking would reduce the minor shelf rockfish complex south harvest specifications, including an ACL reduction of 4.8 mt (10,582 lb) to 1,463 mt (3,225,363 lb), by calculating the complex harvest specifications with the correct OFL, ABC, and ACL squarespot rockfish contributions found in the 2021 assessment (table 7). The minor shelf rockfish south harvest specifications shown in table 8 and in regulations at table 2a to subpart C for OFL, ABC, and ACL would be reduced to 1,833 mt (4,041,073 lb), 1,464 mt (3,227,568 lb), and 1,464 mt (3,227,568 lb), respectively. The minor shelf rockfish south fishery harvest guideline would also be reduced by 4.8 mt and subsequent trawl and non-trawl allocations would also be proportionally reduced in both table 2a and table 2b to subpart C. Due to the reduction of the trawl allocation, the allocation to the Shorebased IFQ Program at § 660.140(d)(1)(ii)(D) is proportionally reduced based on previously established formulas in the PCGFMP. The revised harvest specifications and the resulting numerical calculations of harvest target management measures are all based on the best scientific information available and follow the same allocative formulas that were used in the original proposed and final rules and described in the SAFE document.

Table 7—Proposed Change in 2024 Squarespot Rockfish OFL, ABC, and ACL Contributions to the Minor Shelf Rockfish South Complex Harvest Specifications
2024 Harvest specification | Original proposed and final rules (mt) | Proposed corrected (mt)
OFL | 11.1 | 6.0
ABC | 9.6 | 5.2
ACL | 9.6 | 4.8

Table 8—2024 Minor Shelf Rockfish South OFL, ABC and ACL, and Harvest Target Management Measures, With Corrected Squarespot Rockfish Contributions
2024 Harvest specification | Original proposed and final rules (mt) | Proposed corrected (mt)
OFL | 1,838 | 1,833
ABC | 1,469 | 1,464
ACL | 1,469 | 1,464
Fishery HG | 1,336.2 | 1,331.4
Trawl (12.2%) | 163.0 | 162.43
IFQ | 163 | 162.4
Non-trawl (87.8%) | 1,173.2 | 1,169.0

E. Yelloweye Rockfish (S. Ruberrimus)

Yelloweye rockfish is the only species in the PCGFMP currently managed under a rebuilding plan. Additional details for the harvest specifications and management measures of this species are described in the original proposed rule in the section “Stocks in Rebuilding Plans.” The 2023-2024 yelloweye rockfish harvest specifications are described in the proposed rule, as well as in the July 2022 SAFE document, as being consistent with the rebuilding plan in regulations at § 660.40(a). However, the numerical values for the 2023 and 2024 OFLs, ABCs, and ACLs that were recommended by the Council and implemented by NMFS were miscalculated, in part, due to erroneous application of time-varying sigma values (table 9). Time-varying sigma values are part of default harvest control rules implemented in the PCGFMP such that the decrease from the OFL to the ABC increases each year, creating a larger and larger scientific uncertainty buffer as a stock assessment ages. The error resulted in OFLs, all the subsequent harvest specifications, and all the harvest sharing agreements that are calculated from the ACLs, being too high in 2023 and 2024 as implemented in the original final rule.

The Council considered updated estimates of yelloweye rockfish harvest at its September 9-14, 2023 meeting. Estimated harvest of yelloweye rockfish through the end of 2023 of 34.4 mt (75,839 lbs) is expected to be below the correct, lower 2023 ACL of 53.3 mt (117,506 lbs). There does not appear to be a conservation concern in meeting rebuilding plan parameters in 2023 despite harvest specifications that are mistakenly too high.

The proposed 2024 yelloweye rockfish ACL in this rule of 53.3 mt (table 10) is a 19 percent reduction from the 2024 ACL in the original proposed and final rule but is consistent with the numerical value presented for 2024 in projections in the yelloweye rockfish rebuilding analysis published in January 2018. Therefore, the harvest specifications in this proposed rule are based on the rebuilding plan, and corresponding proportional reductions to harvest targets are implementing the harvest policies and management measures recommended by the Council for 2024.

Tables 9 and 10 show the proposed revisions to the harvest specifications and harvest targets for yelloweye rockfish for 2024.

Table 9—Incorrect 2024 Harvest Specifications for Yelloweye Rockfish Implemented by the 2023-2024 Specifications and Management Measures Proposed and Final Rules
| OFL (mt) | ABC (mt) | ACL (mt) | HG (mt) | ACT (mt)
All sectors | 123 | 103 | 66 | 55.3 |
Non-trawl |  |  |  | 50.9 | 39.9
Non-Nearshore |  |  |  | 10.7 | 8.4
Nearshore |  |  |
Washington Recreational |  |  |  | 13.2 | 10.4
Oregon Recreational |  |  |  | 11.7 | 9.2
California Recreational |  |  |  | 15.3 | 12.0
Trawl/Shorebased IFQ ᵃ |  |  |  | 4.42 |
ᵃ The trawl allocation is in regulations to one decimal place. Allocations to the Shorebased IFQ Program are 100 percent of the trawl allocation but carried to two decimal places at table 1 to paragraph (d)(1)(ii)(D) in § 660.140.

Table 10—Proposed 2024 Harvest Specifications for Yelloweye Rockfish, Based on the Rebuilding Plan
| OFL (mt) | ABC (mt) | ACL (mt) | HG (mt) | ACT (mt)
All sectors | 91.2 | 75.9 | 53.3 | 42.6 |
Non-trawl |  |  |  | 39.2 | 30.7
Non-Nearshore & Nearshore |  |  |  | 8.2 | 6.4
Washington Recreational |  |  |  | 10.0 | 7.9
Oregon Recreational |  |  |  | 9.1 | 7.2
California Recreational |  |  |  | 11.8 | 9.3
Trawl/Shorebased IFQ |  |  |  | 3.41 |

F. Yellowtail Rockfish (S. Flavidus) North of 40°10′ N Lat.

Yellowtail rockfish are a healthy shelf species that is commonly caught in both commercial and recreational fisheries throughout its range, and commonly occur with canary rockfish and widow rockfishes. Despite its popularity in commercial and recreational fisheries, its association with those formerly rebuilding species has kept catch well below ACLs for over a decade, with slight increases in recent years as those co-occurring species are rebuilt and as access to waters where yellowtail rockfish are common has increased.

Harvest specifications and management measures pertinent to yellowtail rockfish north of 40°10′ N lat. (hereafter “north”) were not described in detail in the original proposed and final rules for the 2023-2024 harvest specifications and management measures because no changes to harvest control rules or management measures were proposed for this species. The species was last assessed in 2017, and harvest specifications for 2023-2024 were intended to be calculated based on the 2017 stock assessment. In August 2023, it was discovered that all harvest specifications for yellowtail rockfish north from 2019 through 2024 have been calculated incorrectly, such that the harvest specification numerical values, and all subsequent harvest target calculations based on those ACLs, were not accurately calculated based on the 2017 assessment. The harvest specifications that were recommended by the Council and implemented by NMFS in recent years were therefore too high.

The proposed 2024 yellowtail rockfish north OFL of 5,795 mt (12,776,000 lbs) is a 5 percent reduction in the 2024 OFL from what was implemented through the original proposed and final rules (6,090 mt, 13,426,000 lbs). Harvest in 2017-2022 has been less than 60 percent of the ACLs each year. Therefore, despite the fact that those ACLs were approximately 5 percent too high, there is not a conservation concern that harvest of yellowtail rockfish north has been higher than is sustainable.

The proposed harvest specifications and the resulting numerical calculations of harvest target management measures for yellowtail rockfish north (table 11) are all based on the 2017 assessment and follow the same harvest specifications and allocative formulas that were used in the original proposed and final rules and described in the SAFE document.

Table 11—Proposed Revisions to 2024 Yellowtail Rockfish North OFL, ABC, ACL, Allocations, and Harvest Guidelines (HGs)
2024 Specification | Original proposed and final rules (mt) | Proposed corrected (mt)
OFL | 6,090 | 5,795
ABC | 5,560 | 5,291
ACL | 5,560 | 5,291
Fishery HG | 4,532.5 | 4,263.3
Trawl (88%) | 3,988.6 | 3,751.7
Shorebased IFQ | 3,668.56 | 3,431.69
Non-trawl (12%) | 543.9 | 511.6

G. Summary

NMFS proposes correcting the harvest specifications for 6 species and complexes for 2024 as described above and as summarized in table 12. The 2024 fishing season begins on January 1, 2024, therefore, the errors in the 2024 specifications currently in regulation need to be corrected expeditiously.

Table 12—Proposed Revised 2024 OFLs, ABCs, ACLs, and Fishery Harvest Guidelines (HGs) for 6 Species or Complexes
Stock/complex | Area | OFL (mt) | ABC (mt) | ACL (mt) | Fishery HG (mt)
YELLOWEYE ROCKFISH | Coastwide | 91.2 | 75.9 | 53.3 | 42.6
Canary Rockfish | Coastwide | 1,434 | 1,296 | 1,296 | 1,227.4
Darkblotched Rockfish | Coastwide | 857 | 782 | 782 | 758.7
Sablefish | N of 36° N lat | ¹ 10,670 | ¹ 9,923 | 7,730 | Not Applicable ²
| S of 36° N lat |  |  | 2,193 | 2,165.6
Yellowtail Rockfish | N of 40°10′ N lat | 5,795 | 5,291 | 5,291 | 4,263.3
Minor Shelf Rockfish South | S of 40°10′ N lat | 1,833 | 1,464 | 1,464 | 1,331.4
Note: Rebuilding stocks are capitalized.
¹ Values are the same as those in the 2023-2024 original proposed and final rules and are not proposed to be revised in this rule.
² Sablefish north of 36° N lat. has a different long-term allocation framework in the PCGFMP than the other species in this proposed rule. Proposed numerical values following this framework under the new, lower, proposed ACL are found in table 2c to subpart C.

IV. Classification

Pursuant to section 304 (b)(1)(A) of the Magnuson-Stevens Act, the NMFS Assistant Administrator has determined that this proposed rule is consistent with the PCGFMP, other provisions of the Magnuson-Stevens Act, and other applicable law, subject to further consideration after public comment. In making its final determination, NMFS will consider the complete record, including the data, views, and comments received during the comment period.

Due to timing constraints resulting from when the errors were discovered in August 2023, the recommendations from the Council to correct these errors during its September meeting, and when the errors need to be corrected by, NMFS is providing a 15-day comment period. The corrected values in this proposed rule are consistent with the intent of the Council and what was described in the original proposed and final rules for the 2023-2024 harvest specifications and management measures. The harvest control rules used for the species and stock complex that are the subject of this proposed rule have been, in part, the subject of multiple notice and comment rulemakings over the course of the last six years. The most recent, the 2023-2024 harvest specifications and management measures, had a 30-day comment period on the proposed rule and no comments were received regarding the subject species and stock complex. Failure to implement the revised harvest specifications as soon as possible leaves harvest specifications in place that are inconsistent with the best scientific information available and are inconsistent with the intent of the Council and the original proposed and final rules. Delaying final action on these proposed measures to allow for a longer comment period than the minimum 15-day amount allowed for by the Magnuson-Stevens Act would result in significant confusion for the industry as to which values will be in place at the start of the fishing year on January 1, 2024 and therefore has the potential to negatively impact vessels as they plan their fishing operations for 2024. Failure to implement the revised harvest specifications by the start of the fishing year, January 1, 2024, will delay issuance of 2024 quota pounds for all the subject species and stock complexes. If the 2024 quotas calculated and released by NMFS based on the corrected 2024 harvest specifications proposed in this rule are delayed to allow more time for public comment, shareholders for those quotas effectively receive zero pounds for the start of the year and will be unable to begin fishing, which is contrary to the public interest and the goals and objectives of the PCGFMP to maintain year-round groundfish fishing opportunities.

Pursuant to Executive Order 13175, this proposed rule was developed after meaningful consultation and collaboration with tribal officials from the area covered by the PCGFMP. Under the Magnuson-Stevens Act at 16 U.S.C. 1852(b)(5), one of the voting members of the Council must be a representative of an Indian tribe with federally recognized fishing rights from the area of the Council's jurisdiction. This proposed rule revises the numerical values of the sablefish north ACL to correctly apply the harvest control rules recommended by the Council. As a result, the regulations that implement the long-term allocation and sharing agreements for sablefish north in the PCGFMP, including the numerical calculation of the 10 percent tribal share, must be recalculated and proposed for revision in this rule. No other tribal management measures are proposed to be revised in this rule. The regulations at 50 CFR 660.50 direct NMFS to develop tribal allocations and regulations in consultation with the affected tribes. In this instance, no change to harvest policies is proposed. Therefore, additional tribal consultation was not required and none was conducted.

This proposed rule has been determined to be not significant for purposes of Executive Order 12866.

NMFS prepared documentation for this action, which addresses the statutory requirements of the Magnuson-Stevens Act, Executive Order 12866, and the Regulatory Flexibility Act. The full suite of alternatives analyzed by the Council can be found on the Council's website at www.pcouncil.org. NMFS addressed the statutory requirements of the National Environmental Policy Act through preparation of an environmental impact statement (EIS). NMFS prepared an EIS for the 2015-2016 biennial harvest specifications and management measures and is available from NMFS (see ADDRESSES) and tiered environmental analyses (EA) every biennium since then.

This EIS and subsequent EAs examined the harvest specifications and management measures for 2015-2016 and 10-year projections for routinely adjusted harvest specifications and management measures. The 10-year projections evaluated the impacts of the ongoing implementation of harvest specifications and management measures and to evaluate the impacts of the routine adjustments that are the main component of each biennial cycle. This proposed rule corrects the numerical values that result from the application of best scientific information available and default harvest control rules analyzed in that EIS. There are no environmental effects expected from this proposed rule beyond those evaluated in the EIS and the Environmental Assessment for the 2023-2024 harvest specifications and management measures. The harvest levels for all six species or complexes have not been fully attained in recent years and so minor adjustments to the ACLs are likely to result in no discernable difference to the fishery or communities.

The Chief Counsel for Regulation of the Department of Commerce certified to the Chief Counsel for Advocacy of the Small Business Administration that the 2023-2024 harvest specifications and management measures in the original proposed and final rules would not have a significant economic impact on a substantial number of small entities. The Chief Counsel for Regulation of the Department of Commerce certified to the Chief Counsel for Advocacy of the Small Business Administration that this proposed rule, if adopted, would not have a significant economic impact on a substantial number of small entities. This proposed rule makes minor, corrective adjustments to harvest specifications and related allocations and harvest targets that are unlikely to make any appreciable difference to the expected harvests in this mixed-stock fishery because the six species and complexes with proposed changes are not constraining access to co-occurring species. This action affects only a small number of species, and in a mixed stock fishery the affected entities for these few species cannot be differentiated from those described in the original proposed rule. The same small entities identified in the original proposed rule are the same parties that would be subject to the minor regulatory corrections in this proposed rule. Additional information about the affected entities and expected impacts, in the context of the entire fishery and all species, can be found in the original proposed rule (87 FR 62676; October, 14, 2022). No environmental or socioeconomic impacts are expected from the proposed changes in this rule, nor does the proposed action diverge from the harvest policies considered in that certification. The corrections proposed in this rule do not change the overall framework and management measures from the original proposed and final rules and would affect large and small entities similarly. As a result, an initial regulatory flexibility analysis is not required and none has been prepared.

This proposed rule contains no new information collection burden under the Paperwork Reduction Act of 1995.

List of Subjects in 50 CFR Part 660

Fisheries, Fishing, Reporting and recordkeeping requirements.

Dated: October 23, 2023.
Jonathan M. Kurland,
Acting Deputy Assistant Administrator for Regulatory Programs, National Marine Fisheries Service.

For the reasons set out in the preamble, NOAA proposes to amend 50 CFR part 660 as follows:

PART 660—FISHERIES OFF WEST COAST STATES

1. The authority citation for part 660 continues to read as follows:

Authority: 16 U.S.C. 1801 et seq., 16 U.S.C. 773 et seq., and 16 U.S.C. 7001 et seq.

2. In § 660.50, revise paragraph (f)(2)(ii) to read as follows:

§ 660.50 Pacific Coast treaty Indian fisheries.

* * * * *

(f) * * *

(2) * * *

(ii) The Tribal allocation is 849 mt in 2023 and 773 mt in 2024 per year. This allocation is, for each year, 10 percent of the Monterey through Vancouver area (North of 36° N lat.) ACL. The Tribal allocation is reduced by 1.7 percent for estimated discard mortality.

* * * * *

3. Revise tables 2a through 2c to subpart C to read as follows:

* * * * *

Table 2a to Part 660, Subpart C—2024, and Beyond, Specifications of OFL, ABC, ACL, ACT and Fishery Harvest Guidelines
[Weights in metric tons. Capitalized stocks are overfished.]
Stocks | Area | OFL | ABC | ACL ᵃ | Fishery HG ᵇ
YELLOWEYE ROCKFISH ᶜ | Coastwide | 91 | 76 | 53.3 | 42.6
Arrowtooth Flounder ᵈ | Coastwide | 20,459 | 14,178 | 14,178 | 12,083
Big Skate ᵉ | Coastwide | 1,492 | 1,267 | 1,267 | 1,207.2
Black Rockfish ᶠ | California (S of 42° N lat.) | 364 | 329 | 329 | 326.6
Black Rockfish ᵍ | Washington (N of 46°16′ N lat.) | 319 | 289 | 289 | 270.5
Bocaccio ʰ | S of 40°10′ N lat.) | 2,002 | 1,828 | 1,828 | 1,779.9
Cabezonⁱ | California (S of 42° N lat.) | 185 | 171 | 171 | 169.4
California Scorpionfish ʲ | S of 34°27′ N lat.) | 280 | 252 | 252 | 248
Canary Rockfish ᵏ | Coastwide | 1,434 | 1,296 | 1,296 | 1,227.4
Chilipepper ˡ | S of 40°10′ N lat.) | 2,346 | 2,121 | 2,121 | 2,023.4
Cowcod ᵐ | S of 40°10′ N lat.) | 112 | 79 | 79 | 67.8
Cowcod | (Conception) | 93 | 67 | NA | NA
Cowcod | (Monterey) | 19 | 12 | NA | NA
Darkblotched Rockfish ⁿ | Coastwide | 857 | 782 | 782 | 758.7
Dover Sole ᵒ | Coastwide | 55,859 | 51,949 | 50,000 | 48,402.9
English Sole ᵖ | Coastwide | 11,158 | 8,960 | 8,960 | 8,700.5
Lingcod q | N of 40°10′ N lat.) | 4,455 | 3,854 | 3,854 | 3,574.4
Lingcod ʳ | S. of 40°10′ N lat.) | 855 | 740 | 722 | 706.5
Longnose Skate ˢ | Coastwide | 1,955 | 1,660 | 1,660 | 1,408.7
Longspine Thornyhead ᵗ | N of 34°27′ N lat.) | 4,433 | 2,846 | 2,162 | 2,108.3
Longspine Thornyhead ᵘ | S of 34°27′ N lat.) |  |  | 683 | 680.8
Pacific Cod ᵛ | Coastwide | 3,200 | 1,926 | 1,600 | 1,094
Pacific Ocean Perch ʷ | N of 40°10′ N lat.) | 4,133 | 3,443 | 3,443 | 3,297.5
Pacific Whiting ˣ | Coastwide | (ˣ) | (ˣ) | (ˣ) | (ˣ)
Petrale Sole ʸ | Coastwide | 3,563 | 3,285 | 3,285 | 2,898.8
Sablefish ᶻ | N of 36° N lat | 10,670 | 9,923 | 7,730 | See table 2c
Sablefish ᵃᵃ | S of 36° N lat |  |  | 2,193 | 2,165.6
Shortspine Thornyhead ᵇᵇ | N of 34°27′ N lat.) | 3,162 | 2,030 | 1,328 | 1,249.7
Shortspine Thornyhead ᶜᶜ | S of 34°27′ N lat.) |  |  | 702 | 695.3
Spiny Dogfish ᵈᵈ | Coastwide | 1,883 | 1,407 | 1,407 | 1,055.5
Splitnose ᵉᵉ | S of 40°10′ N lat.) | 1,766 | 1,553 | 1,553 | 1,534.3
Starry Flounder ᶠᶠ | Coastwide | 652 | 392 | 392 | 343.7
Widow Rockfish ᵍᵍ | Coastwide | 12,453 | 11,482 | 11,482 | 11,243.7
Yellowtail Rockfish ʰʰ | N of 40°10′ N lat.) | 5,795 | 5,291 | 5,291 | 4,263.3
Stock Complexes
Blue/Deacon/Black Rockfish ⁱⁱ | Oregon | 671 | 594 | 594 | 592.2
Cabezon/Kelp Greenling ʲʲ | Washington | 22 | 17 | 17 | 15
Cabezon/Kelp Greenling ᵏᵏ | Oregon | 198 | 180 | 180 | 179.2
Nearshore Rockfish North ˡˡ | N of 40°10′ N lat.) | 109 | 91 | 91 | 87.7
Nearshore Rockfish South ᵐᵐ | S of 40°10′ N lat.) | 1,097 | 902 | 891 | 886.5
Other Fish ⁿⁿ | Coastwide | 286 | 223 | 223 | 201.8
Other Flatfish ᵒᵒ | Coastwide | 7,946 | 4,874 | 4,874 | 4,653.2
Shelf Rockfish North ᵖᵖ | N of 40°10′ N lat.) | 1,610 | 1,278 | 1,278 | 1,207
Shelf Rockfish South qq | S of 40°10′ N lat.) | 1,833 | 1,464 | 1,464 | 1,331.4
Slope Rockfish North ʳʳ | N of 40°10′ N lat.) | 1,797 | 1,516 | 1,516 | 1,450.6
Slope Rockfish South ˢˢ | S of 40°10′ N lat.) | 868 | 697 | 697 | 658.1
ᵃ Annual catch limits (ACLs), annual catch targets (ACTs) and harvest guidelines (HGs) are specified as total catch values.
ᵇ Fishery HGs means the HG or quota after subtracting Pacific Coast treaty Indian tribes allocations and projected catch, projected research catch, deductions for fishing mortality in non-groundfish fisheries, and deductions for EFPs from the ACL or ACT.
ᶜ Yelloweye rockfish. The 53.3 mt ACL is based on the current rebuilding plan with a target year to rebuild of 2029 and an SPR harvest rate of 65 percent. 10.7 mt is deducted from the ACL to accommodate the Tribal fishery (5 mt), EFP fishing (0.12 mt), research catch (2.92 mt), and incidental open access mortality (2.66 mt) resulting in a fishery HG of 42.6 mt. The non-trawl HG is 39.2 mt. The combined non-nearshore/nearshore HG is 8.2 mt. Recreational HGs are: 10 mt (Washington); 9.1 mt (Oregon); and 11.8 mt (California). In addition, the non-trawl ACT is 30.7, and the combined non-nearshore/nearshore ACT is 6.4 mt. Recreational ACTs are: 7.9 mt (Washington), 7.2 (Oregon), and 9.3 mt (California).
ᵈ Arrowtooth flounder. 2,094.98 mt is deducted from the ACL to accommodate the Tribal fishery (2,041 mt), research catch (12.98 mt) and incidental open access mortality (41 mt), resulting in a fishery HG of 12,083 mt.
ᵉ Big skate. 59.8 mt is deducted from the ACL to accommodate the Tribal fishery (15 mt), research catch (5.49 mt), and incidental open access mortality (39.31 mt), resulting in a fishery HG of 1,207.2 mt.
ᶠ Black rockfish (California). 2.26 mt is deducted from the ACL to accommodate EFP fishing (1.0 mt), research catch (0.08 mt), and incidental open access mortality (1.18 mt), resulting in a fishery HG of 326.6 mt.
ᵍ Black rockfish (Washington). 18.1 mt is deducted from the ACL to accommodate the Tribal fishery (18 mt) and research catch (0.1 mt), resulting in a fishery HG of 270.5 mt.
ʰ Bocaccio south of 40°10′ N lat. Bocaccio are managed with stock-specific harvest specifications south of 40°10′ N lat. and within the Minor Shelf Rockfish complex north of 40°10′ N lat. 48.12 mt is deducted from the ACL to accommodate EFP fishing (40 mt), research catch (5.6 mt), and incidental open access mortality (2.52 mt), resulting in a fishery HG of 1,779.9 mt. The California recreational fishery south of 40°10′ N lat. has an HG of 749.7 mt.
ⁱ Cabezon (California). 1.63 mt is deducted from the ACL to accommodate EFP fishing (1 mt), research catch (0.02 mt), and incidental open access mortality (0.61 mt), resulting in a fishery HG of 169.4 mt.
ʲ California scorpionfish south of 34°27′ N lat. 3.89 mt is deducted from the ACL to accommodate research catch (0.18 mt) and incidental open access mortality (3.71 mt), resulting in a fishery HG of 248 mt.
ᵏ Canary rockfish. 68.91 mt is deducted from the ACL to accommodate the Tribal fishery (50 mt), EFP fishing (6 mt), research catch (10.08 mt), and incidental open access mortality (2.83 mt), resulting in a fishery HG of 1,227.4 mt. The combined nearshore/non-nearshore HG is 122.4 mt. Recreational HGs are: 41.8 mt (Washington); 62.9 mt (Oregon); and 112.9 mt (California).
ˡ Chilipepper rockfish south of 40°10′ N lat. Chilipepper are managed with stock-specific harvest specifications south of 40°10′ N lat. and within the Minor Shelf Rockfish complex north of 40°10′ N lat. 97.7 mt is deducted from the ACL to accommodate EFP fishing (70 mt), research catch (14.04 mt), incidental open access mortality (13.66 mt), resulting in a fishery HG of 2,023.4 mt.
ᵐ Cowcod south of 40°10′ N lat. Cowcod are managed with stock-specific harvest specifications south of 40°10′ N lat. and within the Minor Shelf Rockfish complex north of 40°10′ N lat. 11.17 mt is deducted from the ACL to accommodate EFP fishing (1 mt), research catch (10 mt), and incidental open access mortality (0.17 mt), resulting in a fishery HG of 67.8 mt.
ⁿ Darkblotched rockfish. 23.76 mt is deducted from the ACL to accommodate the Tribal fishery (5 mt), EFP fishing (0.5 mt), research catch (8.46 mt), and incidental open access mortality (9.8 mt) resulting in a fishery HG of 758.7 mt.
ᵒ Dover sole. 1,597.11 mt is deducted from the ACL to accommodate the Tribal fishery (1,497 mt), research catch (50.84 mt), and incidental open access mortality (49.27 mt), resulting in a fishery HG of 48,402.9 mt.
ᵖ English sole. 259.52 mt is deducted from the ACL to accommodate the Tribal fishery (200 mt), research catch (17 mt), and incidental open access mortality (42.52 mt), resulting in a fishery HG of 8,700.5 mt.
q Lingcod north of 40°10′ N lat. 279.63 mt is deducted from the ACL for the Tribal fishery (250 mt), research catch (17.71 mt), and incidental open access mortality (11.92 mt) resulting in a fishery HG of 3,574.4 mt.
ʳ Lingcod south of 40°10′ N lat. 15.5 mt is deducted from the ACL to accommodate EFP fishing (4 mt), research catch (3.19 mt), and incidental open access mortality (8.31 mt), resulting in a fishery HG of 706.5 mt.
ˢ Longnose skate. 251.3 mt is deducted from the ACL to accommodate the Tribal fishery (220 mt), and research catch (12.46 mt), and incidental open access mortality (18.84 mt), resulting in a fishery HG of 1,408.7 mt.
ᵗ Longspine thornyhead north of 34°27′ N lat. 53.71 mt is deducted from the ACL to accommodate the Tribal fishery (30 mt), research catch (17.49 mt), and incidental open access mortality (6.22 mt), resulting in a fishery HG of 2,108.3 mt.
ᵘ Longspine thornyhead south of 34°27′ N lat. 2.24 mt is deducted from the ACL to accommodate research catch (1.41 mt) and incidental open access mortality (0.83 mt), resulting in a fishery HG of 680.8 mt.
ᵛ Pacific cod. 506 mt is deducted from the ACL to accommodate the Tribal fishery (500 mt), research catch (5.47 mt), and incidental open access mortality (0.53 mt), resulting in a fishery HG of 1,094 mt.
ʷ Pacific ocean perch north of 40°10′ N lat. Pacific ocean perch are managed with stock-specific harvest specifications north of 40°10′ N lat. and within the Minor Slope Rockfish complex south of 40°10′ N lat. 145.48 mt is deducted from the ACL to accommodate the Tribal fishery (130 mt), EFP fishing, research catch (5.39 mt), and incidental open access mortality (10.09 mt), resulting in a fishery HG of 3,297.5 mt.
ˣ Pacific whiting. Pacific whiting are assessed annually. The final specifications will be determined consistent with the U.S.-Canada Pacific Whiting Agreement and will be announced in 2024.
ʸ Petrale sole. 386.24 mt is deducted from the ACL to accommodate the Tribal fishery (350 mt), EFP fishing (1 mt), research catch (24.14 mt), and incidental open access mortality (11.1 mt), resulting in a fishery HG of 2,898.8 mt.
ᶻ Sablefish north of 36° N lat. The sablefish coastwide ACL value is not specified in regulations. The sablefish coastwide ACL value is apportioned north and south of 36° N lat., using the rolling 5-year average estimated swept area biomass from the NMFS NWFSC trawl survey, with 77.9 percent apportioned north of 36° N lat. and 22.1 percent apportioned south of 36° N lat. The northern ACL is 7,730 mt and is reduced by 773 mt for the Tribal allocation (10 percent of the ACL north of 36° N lat.). The 773 mt Tribal allocation is reduced by 1.7 percent to account for discard mortality. Detailed sablefish allocations are shown in table 1c.
ᵃᵃ Sablefish south of 36° N lat. The ACL for the area south of 36° N lat. is 2,193 mt (22.1 percent of the calculated coastwide ACL value). 27.4 mt is deducted from the ACL to accommodate research catch (2.40 mt) and the incidental open access fishery (25 mt), resulting in a fishery HG of 2,165.6 mt.
ᵇᵇ Shortspine thornyhead north of 34°27′ N lat. 78.3 mt is deducted from the ACL to accommodate the Tribal fishery (50 mt), research catch (10.48 mt), and incidental open access mortality (17.82 mt), resulting in a fishery HG of 1,249.7 mt for the area north of 34°27′ N lat.
ᶜᶜ Shortspine thornyhead south of 34°27′ N lat. 6.71 mt is deducted from the ACL to accommodate research catch (0.71 mt) and incidental open access mortality (6 mt), resulting in a fishery HG of 695.3 mt for the area south of 34°27′ N lat.
ᵈᵈ Spiny dogfish. 351.48 mt is deducted from the ACL to accommodate the Tribal fishery (275 mt), EFP fishing (1 mt), research catch (41.85 mt), and incidental open access mortality (33.63 mt), resulting in a fishery HG of 1,055.5 mt.
ᵉᵉ Splitnose rockfish south of 40°10′ N lat. Splitnose rockfish in the north is managed in the Slope Rockfish complex and with stock-specific harvest specifications south of 40°10′ N lat. 18.42 mt is deducted from the ACL to accommodate EFP fishing (1.5 mt), research catch (11.17 mt), and incidental open access mortality (5.75 mt), resulting in a fishery HG of 1,534.3 mt.
ᶠᶠ Starry flounder. 48.28 mt is deducted from the ACL to accommodate the Tribal fishery (2 mt), research catch (0.57 mt), and incidental open access mortality (45.71 mt), resulting in a fishery HG of 343.7 mt.
ᵍᵍ Widow rockfish. 238.32 mt is deducted from the ACL to accommodate the Tribal fishery (200 mt), EFP fishing (18 mt), research catch (17.27 mt), and incidental open access mortality (3.05 mt), resulting in a fishery HG of 11,243.7 mt.
ʰʰ Yellowtail rockfish north of 40°10′ N lat.) N lat. Yellowtail rockfish are managed with stock-specific harvest specifications north of 40°10′ N lat. and within the Minor Shelf Rockfish complex south of 40°10′ N lat. 1,027.55 mt is deducted from the ACL to accommodate the Tribal fishery (1,000 mt), research catch (20.55 mt), and incidental open access mortality (7 mt), resulting in a fishery HG of 4,263.3 mt.
ʲʲ Black rockfish/Blue rockfish/Deacon rockfish (Oregon). 1.82 mt is deducted from the ACL to accommodate research catch (0.08 mt), and incidental open access mortality (1.74 mt), resulting in a fishery HG of 592.2 mt.
ʲʲ Cabezonkelp greenling (Washington). 2 mt is deducted from the ACL to accommodate the Tribal fishery, resulting in a fishery HG is 15 mt.
ᵏᵏ Cabezon/kelp greenling (Oregon). 0.79 mt is deducted from the ACL to accommodate research catch (0.05 mt) and incidental open access mortality (0.74 mt), resulting in a fishery HG of 179.2 mt.
ˡˡ Nearshore Rockfish north of 40°10′ N lat. 3.27 mt is deducted from the ACL to accommodate the Tribal fishery (1.5 mt), research catch (0.47 mt), and incidental open access mortality (1.31 mt), resulting in a fishery HG of 87.7 mt. State-specific HGs are 17.2 mt (Washington), 30.9 mt (Oregon), and 39.9 mt (California). The ACT for copper rockfish (California) is 6.99 mt. The ACT for quillback rockfish (California) is 0.96 mt.
ᵐᵐ Nearshore Rockfish south of 40°10′ N lat. 4.54 mt is deducted from the ACL to accommodate research catch (2.68 mt) and incidental open access mortality (1.86 mt), resulting in a fishery HG of 886.5 mt. The ACT for copper rockfish is 87.73 mt. The ACT for quillback rockfish is 0.97 mt.
ⁿⁿ Other Fish. The Other Fish complex is comprised of kelp greenling off California and leopard shark coastwide. 21.24 mt is deducted from the ACL to accommodate research catch (6.29 mt) and incidental open access mortality (14.95 mt), resulting in a fishery HG of 201.8 mt.
ᵒᵒ Other Flatfish. The Other Flatfish complex is comprised of flatfish species managed in the PCGFMP that are not managed with stock-specific OFLs/ABCs/ACLs. Most of the species in the Other Flatfish complex are unassessed and include: butter sole, curlfin sole, flathead sole, Pacific sanddab, rock sole, sand sole, and rex sole. 220.79 mt is deducted from the ACL to accommodate the Tribal fishery (60 mt), research catch (23.63 mt), and incidental open access mortality (137.16 mt), resulting in a fishery HG of 4,653.2 mt.
ᵖᵖ Shelf Rockfish north of 40°10′ N lat. 70.94 mt is deducted from the ACL to accommodate the Tribal fishery (30 mt), research catch (15.32 mt), and incidental open access mortality (25.62 mt), resulting in a fishery HG of 1,207.1 mt.
qq Shelf Rockfish south of 40°10′ N lat. 132.77 mt is deducted from the ACL to accommodate EFP fishing (50 mt), research catch (15.1 mt), and incidental open access mortality (67.67 mt) resulting in a fishery HG of 1,331.4 mt.
ʳʳ Slope Rockfish north of 40°10′ N lat. 65.39 mt is deducted from the ACL to accommodate the Tribal fishery (36 mt), research catch (10.51 mt), and incidental open access mortality (18.88 mt), resulting in a fishery HG of 1,450.6 mt.
ˢˢ Slope Rockfish south of 40°10′ N lat. 38.94 mt is deducted from the ACL to accommodate EFP fishing (1 mt), research catch (18.21 mt), and incidental open access mortality (19.73 mt), resulting in a fishery HG of 658.1 mt. Blackgill rockfish has a stock-specific HG for the entire groundfish fishery south of 40°10′ N lat. set equal to the species' contribution to the 40-10-adjusted ACL. Harvest of blackgill rockfish in all groundfish fisheries south of 40°10′ N lat. counts against this HG of 169.9 mt.

Table 2b to Part 660, Subpart C—2024, and Beyond, Allocations by Species or Species Group
[Weight in metric tons]
Stocks/stock complexes | Area | Fishery HG or ACT | Trawl: % | Trawl: Mt | Non-trawl: % | Non-trawl: Mt
YELLOWEYE ROCKFISH ᵃ | Coastwide | 42.6 | 8 | 3.41 | 92 | 39.2
Arrowtooth flounder | Coastwide | 12,083 | 95 | 11,478.9 | 5 | 604.2
Big skate ᵃ | Coastwide | 1,207.2 | 95 | 1,146.8 | 5 | 60.4
Bocaccio ᵃ | S of 40°10′ N lat | 1,779.9 | 39.04 | 694.9 | 60.96 | 1,085
Canary rockfish ᵃ | Coastwide | 1,227.4 | 72.3 | 887.4 | 27.7 | 340
Chilipepper rockfish | S of 40°10′ N lat | 2,023.4 | 75 | 1,517.6 | 25 | 505.9
Cowcod a b | S of 40°10′ N lat | 67.8 | 36 | 24.4 | 64 | 43.4
Darkblotched rockfish | Coastwide | 758.7 | 95 | 720.8 | 5 | 37.9
Dover sole | Coastwide | 4,8402.9 | 95 | 45,982.7 | 5 | 2,420.1
English sole | Coastwide | 8,700.5 | 95 | 8265.5 | 5 | 435
Lingcod | N of 40°10′ N lat | 3,574.4 | 45 | 1,608.5 | 55 | 1,965.9
Lingcod ᵃ | S of 40°10′ N lat | 706.5 | 40 | 282.6 | 60 | 423.9
Longnose skate ᵃ | Coastwide | 1,408.7 | 90 | 1,267.8 | 10 | 140.9
Longspine thornyhead | N of 34°27′ N lat | 2,108.3 | 95 | 2,002.9 | 5 | 105.4
Pacific cod | Coastwide | 1,094 | 95 | 1,039.3 | 5 | 54.7
Pacific ocean perch | N of 40°10′ N lat | 3,297.5 | 95 | 3,132.6 | 5 | 164.9
Pacific whiting ᶜ | Coastwide | TBD | 100 | TBD | 0 | 0
Petrale sole ᵃ | Coastwide | 2898.8 |  | 2,868.8 |  | 30
Sablefish | N of 36° N lat | NA | See table 2c
Sablefish | S of 36° N lat | 2,165.6 | 42 | 909.6 | 58 | 1,256.0
Shortspine thornyhead | N of 34°27′ N lat | 1,249.7 | 95 | 1,187.2 | 5 | 62.5
Shortspine thornyhead | S of 34°27′ N lat | 695.3 |  | 50 |  | 645.3
Splitnose rockfish | S of 40°10′ N lat | 1,534.3 | 95 | 1,457.6 | 5 | 76.7
Starry flounder | Coastwide | 343.7 | 50 | 171.9 | 50 | 171.9
Widow rockfish ᵃ | Coastwide | 11,243.7 |  | 10,843.7 |  | 400
Yellowtail rockfish | N of 40°10′ N lat | 4,263.3 | 88 | 3,751.7 | 12 | 511.6
Other Flatfish | Coastwide | 4,653.2 | 90 | 4,187.9 | 10 | 465.3
Shelf Rockfish ᵃ | N of 40°10′ N lat | 1,207.1 | 60.2 | 726.7 | 39.8 | 480.4
Shelf Rockfish ᵃ | S of 40°10′ N lat | 1,331.4 | 12.2 | 162.43 | 87.8 | 1,169.0
Slope Rockfish | N of 40°10′ N lat | 1,450.6 | 81 | 1,175.0 | 19 | 275.6
Slope Rockfish ᵃ | S of 40°10′ N lat | 658.1 | 63 | 414.6 | 37 | 243.5
ᵃ Allocations decided through the biennial specification process.
ᵇ The cowcod non-trawl allocation is further split 50:50 between the commercial and recreational sectors. This results in a sector-specific ACT of 21.7 mt for the commercial sector and 21.7 mt for the recreational sector.
ᶜ Consistent with regulations at § 660.55(i)(2), the commercial harvest guideline for Pacific whiting is allocated as follows: 34 percent for the C/P Coop Program; 24 percent for the MS Coop Program; and 42 percent for the Shorebased IFQ Program. No more than 5 percent of the Shorebased IFQ Program allocation may be taken and retained south of 42° N lat. before the start of the primary Pacific whiting season north of 42° N lat.

Table 2c to Part 660, Subpart C—Sablefish North of 36° N Lat. Allocations, 2024 and Beyond
[Weights in metric tons]
Year | ACL | Set-asides: Tribal ᵃ | Set-asides: Research | Recreational estimate | Exempted fishing permit | Commercial harvest guideline (HG) | Limited entry HG: Percent | Limited entry HG: mt | Open access HG: Percent | Open access HG: mt ᵇ
2024 | 7,730 | 773 | 30.7 | 6 | 1 | 6,919 | 90.6 | 6,269 | 9.4 | 650
Year | LE all | Limited entry (LE) trawl ᶜ |  |  |  | LE fixed gear (FG) ᵈ
|  | All trawl | At-sea whiting | Shorebased IFQ |  | All FG | Primary |  | Daily trip limit
2024 | 6,269 | 3,636 | 100 | 3,536 |  | 2,633 | 2,238 |  | 395
ᵃ The tribal allocation is further reduced by 1.7 percent for discard mortality resulting in 759.9 mt in 2024.
ᵇ The open access HG is taken by the incidental OA fishery and the directed OA fishery.
ᶜ The trawl allocation is 58 percent of the limited entry HG.
ᵈ The limited entry fixed gear allocation is 42 percent of the limited entry HG.

* * * * *

4. In § 660.140, revise table 1 to paragraph (d)(1)(ii)(D) to read as follows:

§ 660.140 Shorebased IFQ Program.

* * * * *

(d) * * *

(1) * * *

(ii) * * *

(D) * * *

Table 1 to Paragraph (d)(1)(ii)(D)—Shorebased Trawl Allocations for 2023 and 2024
IFQ species | Area | 2023 Shorebased trawl allocation (mt) | 2024 Shorebased trawl allocation (mt)
YELLOWEYE ROCKFISH | Coastwide | 4.42 | 3.41
Arrowtooth flounder | Coastwide | 15,640.17 | 11,408.87
Bocaccio | South of 40°10′ N lat | 700.33 | 694.87
Canary rockfish | Coastwide | 842.50 | 851.42
Chilipepper | South of 40°10′ N lat | 1,563.80 | 1517.60
Cowcod | South of 40°10′ N lat | 24.80 | 24.42
Darkblotched rockfish | Coastwide | 646.78 | 644.34
Dover sole | Coastwide | 45,972.75 | 45,972.75
English sole | Coastwide | 8,320.56 | 8,265.46
Lingcod | North of 40°10′ N lat | 1,829.27 | 1,593.47
Lingcod | South of 40°10′ N lat | 284.20 | 282.60
Longspine thornyhead | North of 34°27′ N lat | 2,129.23 | 2,002.88
Pacific cod | Coastwide | 1,039.30 | 1,039.30
Pacific halibut (IBQ) ᵃ | North of 40°10′ N lat | TBD | TBD
Pacific ocean perch | North of 40°10′ N lat | 2,956.14 | 2,832.64
Pacific whiting ᵇ | Coastwide | 159,681.38 | TBD
Petrale sole | Coastwide | 3,063.76 | 2,863.76
Sablefish | North of 36° N lat | 3,893.50 | 3,535.91
Sablefish | South of 36° N lat | 970.00 | 909.55
Shortspine thornyhead | North of 34°27′ N lat | 1,146.67 | 1,117.22
Shortspine thornyhead | South of 34°27′ N lat | 50 | 50
Splitnose rockfish | South of 40°10′ N lat | 1,494.70 | 1,457.60
Starry flounder | Coastwide | 171.86 | 171.86
Widow rockfish | Coastwide | 11,509.68 | 10,367.68
Yellowtail rockfish | North of 40°10′ N lat | 3,761.84 | 3,431.69
Other Flatfish complex | Coastwide | 4,142.09 | 4,152.89
Shelf Rockfish complex | North of 40°10′ N lat | 694.70 | 691.65
Shelf Rockfish complex | South of 40°10′ N lat | 163.02 | 162.43
Slope Rockfish complex | North of 40°10′ N lat | 894.43 | 874.99
Slope Rockfish complex | South of 40°10′ N lat | 417.1 | 414.58
ᵃ Pacific halibut IBQ is set according to 50 CFR 660.55(m).
ᵇ Managed through an international process. This allocation will be updated when announced.

* * * * *

5. In § 660.231, revise paragraph (b)(3)(i) to read as follows:

§ 660.231 Limited entry fixed gear sablefish primary fishery.

* * * * *

(b) * * *

(3) * * *

(i) A vessel participating in the primary season will be constrained by the sablefish cumulative limit associated with each of the permits registered for use with that vessel. During the primary season, each vessel authorized to fish in that season under paragraph (a) of this section may take, retain, possess, and land sablefish, up to the cumulative limits for each of the permits registered for use with that vessel (i.e., stacked permits). If multiple limited entry permits with sablefish endorsements are registered for use with a single vessel, that vessel may land up to the total of all cumulative limits announced in this paragraph for the tiers for those permits, except as limited by paragraph (b)(3)(ii) of this section. Up to 3 permits may be registered for use with a single vessel during the primary season; thus, a single vessel may not take and retain, possess or land more than 3 primary season sablefish cumulative limits in any one year. A vessel registered for use with multiple limited entry permits is subject to per vessel limits for species other than sablefish, and to per vessel limits when participating in the daily trip limit fishery for sablefish under § 660.232. In 2023, the following annual limits are in effect: Tier 1 at 72,904 lb (33,069 kg), Tier 2 at 33,138 lb (15,031 kg), and Tier 3 at 18,936 lb (8,589 kg). In 2024 and beyond, the following annual limits are in effect: Tier 1 at 66,377lb (30,108 kg), Tier 2 at 30,171 lb (13,685 kg), and Tier 3 at 17,241lb (7,820 kg).

* * * * *

[FR Doc. 2023-23686 Filed 10-26-23; 8:45 am]

BILLING CODE 3510-22-P